POSTAL SERVICE

Temporary Emergency Committee of the Board of Governors; Sunshine Act Meeting

DATES AND TIMES: Monday, November 13, 2017, at 10:00 a.m.; and Tuesday, November 14, at 8:00 a.m.

PLACE: Washington, DC, at U.S. Postal Service Headquarters, 475 L'Enfant Plaza SW., in the Benjamin Franklin Room.

STATUS: Monday, November 13, at 10:00 a.m.—Closed; Tuesday, November 14, at 8:00 a.m.—Open.

MATTERS TO BE CONSIDERED:

Monday, November 13, 2017, at 10:00 a.m. (Closed)

1. Financial Matters.

2. Strategic Issues.

3. Compensation and Personnel Matters.

4. Executive Session—Discussion of prior agenda items and Board governance.

Tuesday, November 14, at 8:00 a.m. (Open)

1. Remarks of the Postmaster General and CEO and Chairman of the Temporary Emergency Committee of the Board.

2. Approval of Minutes of Previous Meetings.

3. FY2017 10K and Financial Statements.

4. FY2018 IFP and Financing Resolution.

5. FY2019 Appropriations Request.

6. Quarterly Service Performance Report.

7. Approval of Annual Report and Comprehensive Statement.

8. Draft Agenda for the February 8 and 9, 2018 meetings.

CONTACT PERSON FOR MORE INFORMATION: Julie S. Moore, Secretary of the Board, U.S. Postal Service, 475 L'Enfant Plaza SW., Washington, DC 20260-1000. Telephone: (202) 268-4800.

Julie S. Moore,
Secretary.

[FR Doc. 2017-24069 Filed 11-1-17; 11:15 am]

BILLING CODE 7710-12-P